ENVIRONMENTAL PROTECTION AGENCY

[FRL-9117-9]

Good Neighbor Environmental Board

AGENCY: Environmental Protection Agency (EPA).

ACTION: Notice of meeting.

SUMMARY: Under the Federal Advisory Committee Act, Public Law 92-463, EPA gives notice of a meeting of the Good Neighbor Environmental Board (Board). The Board usually meets three times each calendar year, twice at different locations along the U.S. border with Mexico, and once in Washington, DC. It was created in 1992 by the Enterprise for the Americas Initiative Act, Public Law 102-532, 7 U.S.C. Section 5404. Implementing authority was delegated to the Administrator of EPA under Executive Order 12916. The Board is responsible for providing advice to the President and the Congress on environmental and infrastructure issues and needs within the States contiguous to Mexico in order to improve the quality of life of persons residing on the United States side of the border. The statute calls for the Board to have representatives from U.S. Government agencies; the States of Arizona, California, New Mexico and Texas; and Tribal and private organizations to provide advice on environmental and infrastructure issues along the U.S./Mexico Border.

The purpose of the meeting is to continue discussion and finalize the Board's 13th report. Presentations will also be heard on the environmental impacts of the border fence. The meeting will include a planning session, a business meeting and a public comment session. A copy of the meeting agenda will be posted at http://www.epa.gov/ocem/gneb.

DATES: The Good Neighbor Environmental Board will hold an open meeting on Thursday, March 11, from 8:30 a.m. (registration at 8 a.m.) to 5:30 p.m. The following day, March 12, the Board will hold a business meeting from 8 a.m. until 1 p.m.

ADDRESSES: The meeting will be held at Esplendor Resort, 1069 Camino Caralampi, Rio Rico, AZ 85648, phone number: 520-281-1901. The meeting is open to the public, with limited seating on a first-come, first-served basis.

FOR FURTHER INFORMATION CONTACT: Dolores Wesson, Designated Federal Officer, wesson.dolores@epa.gov, 202-564-1351, U.S. EPA, Office of Cooperative Environmental Management (1601M), 1200 Pennsylvania Avenue, NW., Washington, DC 20460.

SUPPLEMENTARY INFORMATION: If you wish to make oral comments or submit written comments to the Board, please contact Dolores Wesson at least five days prior to the meeting.

General Information: Additional information concerning the GNEB can be found on its Web site at http://www.epa.gov/ocem/gneb.

Meeting Access: For information on access or services for individuals with disabilities, please contact Dolores Wesson at 202-564-1351 or by e-mail at wesson.dolores@epa.gov. To request accommodation of a disability, please contact Dolores Wesson at least 10 days prior to the meeting to give EPA as much time as possible to process your request.

Dated: February 16, 2010.
Dolores Wesson,
Designated Federal Officer.

[FR Doc. 2010-3715 Filed 2-24-10; 8:45 am]

BILLING CODE 6560-50-P